DEPARTMENT OF VETERANS AFFAIRS

Advisory Committee on the Readjustment of Veterans, Notice of Meeting

The Department of Veterans Affairs (VA) gives notice that a meeting of the Advisory Committee on the Readjustment of Veterans will be held Tuesday, Wednesday and Thursday, September 11, 12, and 13, 2018. The meetings will be conducted at the Department of Veterans Affairs National Headquarters, at 811 Vermont Avenue NW, Washington, DC 20420, in Conference Room 6132. The agenda for these three days will begin at 8:00 a.m. and end at 4:30 p.m. The meetings are open to the public.

The purpose of the Committee is to review the post-war readjustment needs of combat-theater Veterans and to evaluate the availability, effectiveness and coordination of VA programs available to meet Veterans' readjustment service needs. The Committee reviews issues related to promoting Veterans' access to VA services, provision of readjustment counseling services at Vet Centers, and coordination of care between the Vet Centers and VA medical facilities.

On Tuesday, September 11, the agenda will feature briefings from the Readjustment Counseling Service (RCS) Chief Officer regarding the current activities of the RCS Vet Centers to include the full scope of outreach and readjustment counseling being provided to combat-theater Veterans, Service members and their families. The briefing will also provide a status report regarding the RCS organizational transition to a single point of service within the general organizational transformation of the Veterans Health Administration (VHA).

On Wednesday, September 12, the Committee will focus on VA mental health services and best practices for coordinating VA mental health services with RCS readjustment counseling services to better serve the combat-theater Veteran population. To this end Committee members will receive briefings from VA's mental health leadership on the types and distribution of psychiatric disorders currently being presented by OIF/OEF Veterans and the various treatment regimens provided for their care inclusive of psychotherapy and psychopharmacology. VA Mental Health and RCS leadership will additionally present on the collaborative activities currently underway between RCS and the Office of Mental Health and Suicide Prevention to achieve life-saving outcomes for at risk combat-theater Veterans and Service members.

On Thursday, September 13, the Committee will engage in strategic discussions for the purpose of formulating conclusions, perspectives and recommendations for developing its 20th annual report to Congress.

No time will be allocated at this meeting for receiving oral presentations from the public. However, members of the public may direct written questions or submit prepared statements for review by the Committee before the meeting to Mr. Charles M. Flora, M.S.W., Designated Federal Officer, Readjustment Counseling Service, Department of Veterans Affairs, 810 Vermont Avenue NW, Washington, DC 20420. Because the meeting will be in a Government building, please provide valid photo identification for check-in. Please allow 15 minutes before the meeting for the check-in process. If you plan to attend or have questions concerning the meeting, please contact the Readjustment Counseling Service (10RCS) action group by email VHA10RCSAction@va.gov or call (202) 461-6525.

Dated: August 13, 2018.
Jelessa M. Burney,
Federal Advisory Committee Management Office.

[FR Doc. 2018-17708 Filed 8-15-18; 8:45 am]

BILLING CODE P